DEPARTMENT OF COMMERCE

National Oceanic and Atmospheric Administration

[I.D. 081501B]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Plan Development Team (HMSPDT) will hold a work session, which is open to the public.

DATES: The HMSPDT will meet on Tuesday, September 18, 2001; Wednesday, September 19, 2001; and Thursday, September 20, 2001. The HMSPDT will meet on Tuesday and Wednesday from 8:30 a.m. until 5 p.m.; on Thursday the HMSPDT will meet from 8:30 a.m. until business for the day is completed.

ADDRESSES: The work session will be held at the Hubbs-Sea World Research Institute, East Conference Room, 2595 Ingraham Street, San Diego, CA 92109, telephone: 691-226-3870.

Council address: Pacific Fishery Management Council, 7700 NE Ambassador Place, Suite 200, Portland, OR 97220-1384.

FOR FURTHER INFORMATION CONTACT: Dan Waldeck, Pacific Fishery Management Council, telephone: 503-326-6352.

SUPPLEMENTARY INFORMATION: The purpose of this meeting is to incorporate Council, Scientific and Statistical Committee, Advisory Subpanel, and HMSPDT recommendations into a public review draft of the fishery management plan (FMP) for West Coast based highly migratory species fisheries, which will be submitted to the Council at their November 2001 meeting. This is a working meeting devoted to revising previous drafts into the public review draft. Time for public comment will be provided after each agenda topic. The proposed agenda is as follows:

Tuesday, September 18, 2001, 8:30 a.m.

A. Call to Order

B. Introductions

C. Review and Approval of Agenda

D. Distribute and Review New Documents

E. Review Revised FMP

Wednesday, September 19, 2001, 8:30 a.m.

A. Review Revised FMP (continued, as necessary)

B. Review Regulatory Document

Thursday, September 20, 2001, 8:30 a.m.

A. Review Regulatory Document (continued, as necessary)

B. Further Discussion as Needed

C. Deadlines for Final Draft Report to Council

Although nonemergency issues not contained in the HMSPDT meeting agenda may come before the HMSPDT for discussion, those issues may not be the subject of formal HMSPDT action during this meeting. HMSPDT action will be restricted to those issues specifically listed in this document and any issues arising after publication of this document that require emergency action under section 305(c) of the Magnuson-Stevens Fishery Conservation and Management Act, provided the public has been notified of the HMSPDT's intent to take final action to address the emergency.

Special Accommodations

The meeting is physically accessible to people with disabilities. Requests for sign language interpretation or other auxiliary aids should be directed to Ms. Carolyn Porter at 503-326-6352 at least 5 days prior to the meeting date.

Dated: August 16, 2001.
Richard W. Surdi,
Acting Director, Office of Sustainable Fisheries, National Marine Fisheries Service.

[FR Doc. 01-21207 Filed 8-21-01; 8:45 am]

BILLING CODE 3510-22-S